DEPARTMENT OF HEALTH AND HUMAN SERVICES

Centers for Disease Control and Prevention

[Program Announcement 00088]

Health Promotion and Disease Prevention for Rhode Island Senior Citizens; Notice of Availability of Funds

A. Purpose

The Centers for Disease Control and Prevention (CDC) announces the availability of fiscal year (FY) 2000 funds for a grant program entitled “Health Promotion and Disease Prevention for Rhode Island Senior Citizens”. CDC is committed to achieving the health promotion and disease prevention objectives of “Healthy People 2010,” a national activity to reduce the morbidity and mortality and improve the quality of life. This announcement is related to the focus area of Educational and Community-Based Programs. For the conference copy of “Healthy People 2010”, visit the internet site: <http://www.health.gov/healthypeople>.

The purpose of the program is to create and evaluate a model for health outreach and health promotion for senior citizen communities that can be applied around the nation. This model will be created through a community partnership between the Roger Williams Medical Center and the New England Association of Labor Retirees.

B. Eligible Applicants

Assistance will be provided only to the Roger Williams Medical Center, Providence, RI. No other applications are solicited. This sole source solicitation is based on the Conference Report [H.R. Rep. 10-470, at 599 (1999)] to the Consolidated Appropriations Act, 2000, Public Law 106-113, which earmarks funding for the Roger Williams Medical Center in Providence, Rhode Island, to collaborate with the New England Association of Labor Retirees on a program emphasizing the early detection of diseases among seniors.

Note: Public Law 104-65 states that an organization described in section 501(c)(4) of the Internal Revenue Code of 1986 that engages in lobbying activities is not eligible to receive Federal funds constituting an award, grant, cooperative agreement, contract loan, or any other form.

C. Availability of Funds

Approximately $607,411 is available in FY 2000 to fund the Roger Williams Medical Center in Providence, Rhode Island. It is expected that the award will begin on or about August 1, 2000, and will be made for a 12-month budget period within a project period of one year. Funding estimates may change.

D. Program Requirements

In conducting activities to achieve the purpose of this program, the recipient will be responsible for the following:

1. Create a health promotion model with objectives that illustrates a population screening strategy for Rhode Island seniors with follow-up strategies for health promotion and health maintenance.

2. Conduct and evaluate one or more demonstration projects in health promotion and disease prevention or preventive health services, or both, in defined communities or targeted populations. Revise the health promotion model based on outcomes of the demonstration project.

3. Establish an advisory committee to provide input on major program activities. The committee should be comprised of experts in health promotion/disease prevention and evaluation research arena. Committee members could include experts from health-care providers, local health departments, voluntary health organizations, senior citizens, and academic institutions.

4. Establish collaborative activities with appropriate organizations, individuals, State health, education, and mental health agencies such as the Rhode Island Department of Public Health, the American Cancer Society, Senior Citizens Associations and local media, etc., to implement and evaluate the proposed activities.

5. Coordinate and collaborate with other Public Health Service (PHS) supported research programs to prevent duplication and enhance overall efforts.

E. Application Content

Use the information in the Program Requirements, Other Requirements, and Evaluation Criteria sections to develop the application content. Your application will be evaluated on the criteria listed, so it is important to follow the criteria when creating your program plan. The narrative should be no more than 20 double-spaced pages, printed on one side, with one inch margins, and unreduced font.

F. Submission and Deadline

Submit the original and five copies of the application PHS Form 398 (OMB Number 0925-0001) (adhere to the instructions on the Errata Instruction Sheet for PHS 398). Forms are available in the application kit. Submit the application on or before June 30, 2000, to the Grants Management Specialist identified in Section J., “Where to Obtain Additional Information”.

Deadline: The application shall be considered as meeting the deadline above if it is either:

(a) Received on or before the deadline date; or

(b) Sent on or before the deadline date.

(Applicant must request a legibly dated U.S. Postal Service postmark or obtain a legibly dated receipt from a commercial carrier or the U.S. Postal Service. Private metered postmarks shall not be acceptable as proof of timely mailing.)

G. Evaluation Criteria

The application will be evaluated based on the following criteria by an independent review panel appointed by CDC.

Background (10 Points)

The extent to which the applicant demonstrates an understanding of the current scientific literature and theories relevant to the proposed activities.

Program Plan (50 Points)

1. The extent to which the overall program plan has clear objectives that are specific, measurable, and realistic. (8 points)

2. The extent to which the target population(s) are well-specified and consistent with the proposed objectives. (8 points)

3. The extent to which the proposed program activities are well-specified, achievable, time-phased, and consistent with the proposed objectives. (12 points)

4. The extent to which the proposed research methods (e.g., participant recruitment, data collection, outcome measures, data analyses, etc.) are clear and appropriate, have scientific merit, and are consistent with proposed objectives and activities. (12 points)

5. The degree to which the applicant has met the CDC policy requirements regarding the inclusion of women, ethnic and racial groups in the proposed research. This includes:

a. The proposed plan for the inclusion of both sexes and racial and ethnic minority populations for appropriate representation.

b. The proposed justification when representation is limited or absent.

c. A statement as to whether the design of the study is adequate to measure differences when warranted. (10 points)

Evaluation Plan (15 Points)

The quality of the plan to evaluate the overall project as well as specific program activities in regard to progress, efficacy, and cost benefits.

Collaboration (15 Points)

1. The extent to which the applicant has described a plan for establishing and gathering input from an advisory committee with expertise critical to the success of the project.

2. The extent to which the applicant has described a plan for establishing collaborative relationships with appropriate organizations, individuals, State health, education and mental health agencies to implement and evaluate the proposed activities.

Management and Staffing Plan (10 Points)

The extent to which the applicant demonstrates the scientific expertise and capacity to carry out the program objectives and specific project plan.

Budget (Reviewed But Not Scored)

The extent to which the budget and justification are consistent with program objectives and purpose.

Human Subjects (Reviewed But Not Scored)

Does the application adequately address the requirements of Title 45 CFR part 46 for the protection of human subjects?

H. Other Requirements

Technical Reporting Requirements

Provide CDC with original plus two copies of:

1. Progress reports (annual);

2. Financial status report, not more than 90 days after the end of the budget period; and

3. Final financial and performance reports, no more than 90 days after the end of the project period.

Send all reports to the Grants Management Specialist identified in Section J., “Where to Obtain Additional Information'.

The following additional requirements are applicable to this program. For a complete description of each, see Attachment I in the application kit.

AR-1 Human Subjects Requirements

AR-2 Requirements for Inclusion of Women and Racial and Ethnic Minorities in Research

AR-7 Executive Order 12372 Review

AR-8 Public Health System Reporting Requirements

AR-9 Paperwork Reduction Act Requirements

AR-10 Smoke-Free Workplace Requirements

AR-11 Healthy People 2010

AR-12 Lobbying Restrictions

I. Authority and Catalog of Federal Domestic Assistance Number

This program is authorized under section 301(a) [42 U.S.C. 241(a)] of the Public Health Service Act, as amended. The Catalog of Federal Domestic Assistance number is 93.283.

J. Where To Obtain Additional Information

If you have questions after reviewing the contents of all the documents, business management assistance may be obtained from: Robert Hancock, Grants Management Specialist, Grants Management Branch, Procurement and Grants Office, Announcement 00088, Centers for Disease Control and Prevention (CDC), Room 3000, 2920 Brandywine Road, Atlanta, GA 30341-4146, telephone (770) 488-2746, E-mail address: RNH2@cdc.gov.

This and other CDC announcements can be found on the CDC home page internet address: http://www.cdc.gov.

For program technical assistance, contact: Lynda Doll, Ph.D., Program Director, Prevention Research Centers Office, National Center for Chronic Disease Prevention and Health Promotion, Centers for Disease Control and Prevention (CDC), 4770 Buford Highway, NE., Atlanta, GA 30341-3724, telephone 404-488-5395, E-mail address: LSD1@cdc.gov.

Dated: May 10, 2000.
John L. Williams,
Director, Procurement and Grants Office, Centers for Disease Control and Prevention (CDC).

[FR Doc. 00-12241 Filed 5-15-00; 8:45 am]

BILLING CODE 4163-18-P